DEPARTMENT OF TRANSPORTATION

Federal Aviation Administration

Notice of Opportunity for Public Comment on Surplus Property Release at Madras Municipal Airport, Madras, OR

AGENCY: Federal Aviation Administration (FAA), DOT.

ACTION: Request for public comments.

SUMMARY: Under the provisions of Title 49, U.S.C. Section 47153(c), notice is being given that the FAA is considering a request from the City of Madras, OR, to waive the surplus property requirements for approximately 1.07 acres of airport property located at Madras Municipal Airport, in Madras, OR.

The subject property is located away from the aeronautical area and currently vacant. The property will remain vacant of any structures, as it will be utilized for public road improvements and right of way purposes only. This release will allow the City to sell parcels of the airport property to businesses interested in the airport industrial park. There will be no actual proceeds generated from the proposed release of this property as it will be used for public road improvements and right-of-way purposes. It has been determined through study that the subject parcels will not be needed for aeronautical purposes.

DATES: Comments must be received on or before September 30, 2015.

ADDRESSES: Send comments on this document to Ms. Cayla Morgan at the Federal Aviation Administration, 1601 Lind Avenue SW., Renton, Washington, 98057-3356, Telephone 425-227-2653.

FOR FURTHER INFORMATION CONTACT: Documents are available for review by appointment by contacting Ms. Cayla Morgan, Telephone 425-227-2653, Federal Aviation Administration, 1601 Lind Avenue SW., Renton, Washington.

Issued in Renton, Washington on August 11, 2015.
Joelle Briggs,
Assistant, Manager, Seattle Airports District Office.

[FR Doc. 2015-20289 Filed 8-14-15; 8:45 am]

BILLING CODE 4910-13-P